DEPARTMENT OF HOUSING AND URBAN DEVELOPMENT

[Docket No. FR-5067-N-05]

Extension and Expansion of HUD's Implementation Guidance for Section 901 of the Emergency Supplemental Appropriations To Address Hurricanes in the Gulf of Mexico, and Pandemic Influenza Act, 2006, as Revised by Section 11003 of the Consolidated Security, Disaster Assistance, and Continuing Appropriations Act, 2009 To Include Calendar Years 2008 and 2009 Program Funds

AGENCY: Office of the Assistant Secretary for Public and Indian Housing, HUD.

ACTION: Notice.

SUMMARY: This notice supplements four earlier notices published in the Federal Register that provided guidance to public housing agencies (PHAs) on implementing the authority provided to HUD by section 901 of the “Emergency Supplemental Appropriations to Address Hurricanes in the Gulf of Mexico and Pandemic Influenza Act, 2006” (Pub. L. 109-148, December 30, 2005) to allow PHAs in the most heavily impacted areas of Louisiana and Mississippi affected by Hurricanes Katrina and Rita to combine Housing Choice Voucher and public housing operating and capital funds to assist families who were receiving housing assistance under the U.S. Housing of 1937 immediately prior to Hurricanes Katrina or Rita and were displaced from their housing by the hurricanes. Section 901 assists PHAs to flexibly and efficiently facilitate disaster recovery in those areas to benefit the formerly assisted and displaced families. Such authority was initially provided for calendar years 2006 and 2007, and later extended through calendar years 2008 and 2009 by section 11003 of the Consolidated Security, Disaster Assistance, and Continuing Appropriations Act, 2009 (Pub. L. 110-329). On December 17, 2008, HUD published a Federal Register notice advising eligible PHAs to submit Fungibility Plans for CY 2008 Section 901 fungibility no later than January 31, 2009.

Eligible PHAs with a continued need for assisting families who were receiving housing assistance under the 1937 Housing Act immediately prior to Hurricane Katrina or Rita and were displaced from their housing by the hurricanes and are interested in using authority provided under the extended Section 901 authority must submit a 2009 Notice of Intent and Fungibility Plan in accordance with the July 28, 2006, October 30, 2006, and August 6, 2007 Federal Register notices. Further information on the required contents of 2009 Fungibility Plans, funds management, eligible activities, reporting, and HUD processing of CY 2009 Section 901 fungibility will be posted to the Office of Public and Indian Housing Web site at http://www.hud.gov/offices/pih.

DATES: Eligible PHAs must submit their Calendar Year 2009 Notices of Intent and Fungibility Plans no later than November 30, 2009.

FOR FURTHER INFORMATION CONTACT: For technical assistance and other questions concerning the Notice of Intent and Section 901 Fungibility Plan, PHAs should contact their local HUD Public Housing Hub in New Orleans, Louisiana, or Jackson, Mississippi; or Bessy Kong, Deputy Assistant Secretary for Policy, Program, and Legislative Initiatives, Office of Public and Indian Housing, Department of Housing and Urban Development, 451 Seventh Street, SW., Room 4116, Washington, DC 20410-5000, telephone 202-402-2548 (this is not a toll-free number). Persons with hearing or speech impairments may access this number via TTY by calling the toll-free Federal Information Relay Service at 800-877-8339.

Environmental Review

This Notice provides operating instructions and procedures in connection with activities under HUD's notice FR-5067-N-01 (July 28, 2006), for which a Finding of No Significant Impact was prepared. Accordingly, under 24 CFR 50.19(c)(4), this Notice is categorically excluded from environmental review under the Environmental Policy Act of 1969 (42 U.S.C. 4321).

SUPPLEMENTARY INFORMATION: On July 28, 2006, HUD published notice FR-5067-N-01 (71 FR 42996) entitled, “Implementation Guidance for Section 901 of the Emergency Supplemental Appropriations to Address Hurricanes in the Gulf of Mexico, and Pandemic Influenza Act, 2006.” This Notice provided interested PHAs submission requirements including a Notice of Intent to invoke flexibility and a detailed Section 901 Fungibility Plan. Section 901 of the supplemental appropriations act authorizes HUD to allow PHAs to combine assistance provided under sections 9(d) and 9(e) of the United States Housing Act of 1937 (Act) and assistance provided under section 8(o) of the Act, for the purpose of facilitating the prompt, flexible and efficient use of funds provided under these sections of the Act to assist families who were receiving housing assistance under the Act immediately prior to Hurricane Katrina or Rita and were displaced from their housing by the hurricanes. Section V.A. of the July 28, 2006 notice, entitled, “General Procedures for Combining Public Housing and Voucher Funds under Section 901,” provided instructions for PHAs interested in implementing the flexibility in funding authorized in Section 901.

On October 30, 2006, HUD published notice FR-5067-N-02 (71 FR 63340) extending the period for eligible public housing agencies (PHAs) located within the most heavily impacted areas of Louisiana and Mississippi that are subject to a declaration by the President of a major disaster under the Robert T. Stafford Disaster Relief and Emergency Assistance Act in connection with Hurricanes Katrina or Rita to submit Notices of Intent and Fungibility Plans in accordance with the July 28, 2006, notice. In addition to extending the PHA submission deadline, the October 30, 2006 Notice removed the restriction that the combined funding may not be spent for uses under the Housing Choice Voucher program.

On August 6, 2007, HUD published notice FR-5067-N-03 (72 FR 43657) extending Section 901 fungibility through Calendar Year 2007 pursuant to section 4803 of the U.S. Troop Readiness, Veterans' Care, Katrina Recovery, and Iraq Accountability Appropriations Act (Pub. L. 110-28, May 25, 2007).

This Notice revises the earlier notices to incorporate the extension of Section 901 fungibility from calendar year (CY) 2007 to calendar years 2006, 2007, 2008, and 2009 as authorized by section 11003 of the Consolidated Security, Disaster Assistance, and Continuing Appropriations Act, 2009 (Pub. L. 110-329).

As noted earlier in this notice, eligible PHAs interested in combining (CY) 2009 funds must submit a 2009 Notice of Intent and Fungibility Plan in accordance with the July 28, 2006 and subsequent Federal Register notices. The plans must describe in detail the source programs from which funding will be provided, the end program for which funds will be used, and the specific activities to be implemented and how they will directly assist families that were receiving housing assistance under the 1937 Housing Act before Hurricanes Katrina and Rita, and who were displaced from their housing as a result of the hurricanes. The 2009 plans must provide detailed information to identify formerly assisted and displaced families by program, program status, and former residence. Families that were evacuated as a result of the hurricanes and returned to their original, habitable housing unit are not considered displaced. In 2009, HUD will not accept plans to use Section 901 fungibility to develop new housing units for populations that do not meet the definition of families that were formerly assisted under the 1937 Housing Act immediately prior to Hurricanes Katrina and Rita and that were displaced from their housing by the hurricanes. Further, HUD will not accept plans for new unit development, other than for units that will be placed under project-based voucher (PBV) contracts under the Housing Choice Voucher program and/or public housing units that will come under a public housing Annual Contributions Contract (ACC). Fungibility plans for using Section 901 flexibility to support the cost of developing and constructing new units must include preliminary development proposals that describe the legal and business relationships of all participating entities and the PHA, the number and specific type of housing units supported with Section 901 funds that will be placed under Annual Contributions Contracts (ACCs) or Housing Choice Voucher (HCV) project-based contracts, the proposed site, site plan, and neighborhood; all financing including sources and uses, and a preliminary development/construction cost estimate based on schematic drawings and outline specifications. HUD approvals of Fungibility Plans may be contingent upon the PHA later providing final development documents that include, but are not limited to ten-year operating pro formas including underlying assumptions, financing documents, feasibility analyses, life cycle analyses, schematic drawings and building designs, final development and construction cost estimates.

The 2006 Section 901 implementation notice also sets forth accounting requirements for Section 901 flexibility, which require separate accounting by source year (2006, 2007, 2008, and 2009), and the creation of a separate column on the Financial Data Schedule (FDS). The notice also specifies time periods for completion of activities approved under Section 901. Further information on HUD processing of CY 2009 Section 901 flexibility may be found in the PIH notices section of the Office of Public and Indian Housing Web site at: http://www.hud.gov/offices/pih.

2009 Notices of Intent and Fungibility Plans should be dated and submitted to the following addresses and contacts, as listed in the July 28, 2006, notice: PHAs should submit one copy to the Public Housing Director of the HUD office in New Orleans, Louisiana or Jackson, Mississippi, as applicable, and the original to HUD Headquarters, Office of Public and Indian Housing, Office of Policy, Program, and Legislative Initiatives, 451 Seventh Street, SW., Room 4116, Washington, DC 20410-5000, Attention: Bessy Kong/Sherry McCown. To expedite HUD processing, electronic copies of the original, signed Notices of Intent and Fungibility Plans should be directed to the following e-mail address: sherry.fobearmccown@hud.gov.

Dated: November 2, 2009.
Sandra B. Henriquez,
Assistant Secretary for Public and Indian Housing, Rodger Boyd, Deputy Assistant Secretary for Office of Native American Programs.

[FR Doc. E9-26864 Filed 11-6-09; 8:45 am]

BILLING CODE 4210-67-P